DEPARTMENT OF HEALTH AND HUMAN SERVICES

Centers for Disease Control and Prevention

Delegation of Authority

Notice is hereby given that I have delegated to the Director, Centers for Disease Control and Prevention (CDC), with the authority to redelegate exclusively to the Director, National Institute for Occupational Safety and Health, the authority vested in the Secretary, under the Firefighter Cancer Registry Act of 2018 (Pub. L. 115-194).

This delegation became effective upon date of signature. In addition, I hereby adopt any actions taken by the Director, CDC, or his/her subordinates which involved the exercise of the authorities delegated herein prior to the effective date of the delegation.

Dated: October 24, 2019.
Alex M. Azar II,
Secretary, Department of Health and Human Services.

[FR Doc. 2019-23668 Filed 10-29-19; 8:45 am]

BILLING CODE 4163-18-P